DEPARTMENT OF TRANSPORTATION

Federal Aviation Administration

Agency Information Collection Activity Under OMB Review

AGENCY: Federal Aviation Administration (FAA), DOT.

ACTION: Notice.

SUMMARY: In compliance with the Paperwork Reduction Act of 1995 (44 U.S.C. 3501 et seq.), this notice announces that the Information Collection Request (IRC) abstracted below has been forwarded to the Office of Management and Budget (OMB) for extension of currently approved collection. The ICR describes the nature of the information collection and the expected burden. The Federal Register Notice with a 60-day comment period soliciting comments on the following collection of information was published on May 9, 2000 [FR 65, pages 26871-26872].

DATES: Comments must be submitted on or before September 11, 2000. A comment to OMB is most effective if OMB receives it within 30 days of publication.

FOR FURTHER INFORMATION CONTACT: Judy Street on (202) 267-9895.

SUPPLEMENTARY INFORMATION: Federal Aviation Administration (FAA).

Title: Aviation Research Grants Program.

Type of Request: Extension of a currently approved collection.

OMB Control Number: 2120-0559.

Form(s): FAA Forms 9550-1; 9550-2; 9550-3; 90550-5; and SF-269; SF-270; SF-272; SF-3881; SF-LLL.

Affected Public: 100 Respondents.

Abstract: The FAA Aviation Research and Development Grants Program establishes uniform policies and procedures for the award and administration of research grants to colleges, universities, not for profit organizations, and profit organizations for security research. This program implements OMB Circular A-110, Pub. L. 101-508, section 9205, 9208, and Pub. L. 101-604 section 107(d). The Administrator of the FAA is empowered under this program to make directed grants for research and development deemed by the Administrator to be required for the long-term growth of civil aviation. Information will be required from grantees for the purpose of grant administration and review in accordance with applicable OMB Circulars.

Estimated Annual Burden Hours: 1400 burden hours annually.

Issued in Washington, DC, on August 4, 2000.
Patricia W. Carter,
Acting Manager, Standards and Information Division, APF-100.

[FR Doc. 00-20280 Filed 8-9-00; 8:45 am]

BILLING CODE 4910-13-M